DEPARTMENT OF HOMELAND SECURITY

Coast Guard

33 CFR Part 117

[USCG-2008-0523]

Drawbridge Operating Regulations; Sabine Lake, Port Arthur, TX

AGENCY: Coast Guard, DHS.

ACTION: Notice of temporary deviation from regulations.

SUMMARY: The Commander, Eighth Coast Guard District, has issued a temporary deviation from the regulation governing the operation of the State Route 82 (SR 82) swing span bridge across Sabine Lake at mile 9.5 between Cameron Parish, Louisiana and Jefferson County, Texas. This deviation provides for the bridge to remain closed to navigation for 19 consecutive days to reverse the direction of the swing span to facilitate construction of a new replacement bridge adjacent to the existing swing span bridge.

DATES: This deviation is effective from 5 a.m. on Monday, July 7, 2008 until 5 a.m. on Saturday, July 26, 2008.

ADDRESSES: Documents indicated in this preamble as being available in the docket are part of docket USCG-2008-0523 and are available for inspection or copying at two locations: The Docket Management Facility (M-30), U.S. Department of Transportation, West Building Ground Floor, Room W12-140, 1200 New Jersey Avenue, SE., Washington, DC 20590, between 9 a.m. and 5 p.m., Monday through Friday, except Federal holidays, and the office of the Eighth Coast Guard District, Bridge Administration Branch, Hale Boggs Federal Building, Room 1313, 500 Poydras Street, New Orleans, Louisiana 70130-3310 between 7 a.m. and 3 p.m., Monday through Friday, except Federal holidays.

FOR FURTHER INFORMATION CONTACT: Phil Johnson, Bridge Administration Branch, telephone (504) 671-2128.

SUPPLEMENTARY INFORMATION: The Texas Department of Transportation (TXDOT) has requested a temporary deviation in order to reverse the direction of the swing span of the SR 82 Bridge across Sabine Lake at mile 9.5 between Cameron Parish, Louisiana and Jefferson County, Texas. This procedure is necessary to prevent the swing span from conflicting with the footings and columns being placed for the new replacement bridge, currently under construction. This temporary deviation will allow the bridge to remain in the closed-to-navigation position from 5 a.m. on Monday, July 7, 2008 until 5 a.m. on Saturday, July 26, 2008. During the closure period, the draw will not be able to open for emergencies. Currently, the draw opens on signal; except that, from 9 p.m. to 5 a.m., the draw opens on signal if at least six hours notice is given to the Maintenance Construction Supervisor at Port Arthur.

Navigation on the waterway consists of tugs with tows and recreational powerboats and sailboats. The bridge provides 9 feet of vertical clearance in the closed-to-navigation position. Thus, smaller recreational vessels will be able to transit through the bridge when it is closed. Tugs with tows and sailboats will not be able to pass through the bridge during this closure. An alternate route is available through the north passage into Sabine Lake from Sabine Neches Canal by Stewts Island. Due to the availability of an alternate route, it has been determined that this closure will not have a significant effect on these vessels. This closure is considered necessary for placement of the new bridge pier footers, while allowing future operation of the swing span during subsequent phases of construction.

In accordance with 33 CFR 117.35(e), the drawbridge must return to its regular operating schedule immediately at the end of the designated time period. This deviation from the operating regulations is authorized under 33 CFR 117.35.

Dated: June 10, 2008.
David M. Frank,
Bridge Administrator.

[FR Doc. E8-13865 Filed 6-18-08; 8:45 am]

BILLING CODE 4910-15-P